DEPARTMENT OF TRANSPORTATION

Federal Railroad Administration

[Docket No. FRA-2016-0002-N-24]

Proposed Agency Information Collection Activities; Comment Request

AGENCY: Federal Railroad Administration (FRA), U.S. Department of Transportation.

ACTION: Notice and request for comments.

SUMMARY: Under the Paperwork Reduction Act of 1995 (PRA) and its implementing regulations, FRA seeks approval of proposed information collection activities listed below. Before submitting these information collection requests (ICRs) to the Office of Management and Budget (OMB) for approval, FRA is soliciting public comment on specific aspects of the activities, which are identified in this notice.

DATES: Comments must be received no later than December 27, 2016.

ADDRESSES: Submit written comments on any or all of the following proposed activities by mail to either: Mr. Robert Brogan, Information Collection Clearance Officer, Office of Railroad Safety, Regulatory Analysis Division, Federal Railroad Administration, RRS-21, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130—New.” Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Safety Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132). (These telephone numbers are not toll free.)

SUPPLEMENTARY INFORMATION: The PRA, 44 U.S.C. 3501-3520, and its implementing regulations, 5 CFR part 1320, require Federal agencies to provide 60-days' notice to the public to allow comment on information collection activities before seeking OMB approval to implement them. 44 U.S.C. 3506(c)(2)(A); 5 CFR 1320.8(d)(1), 1320.10(e)(1), 1320.12(a). Specifically, FRA invites interested respondents to comment on the following summary of proposed information collection activities regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques and other forms of information technology (e.g., permitting electronic submission of responses). See 44 U.S.C. 3506(c)(2)(A)(i)-(iv); 5 CFR 1320.8(d)(1)(i)-(iv).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

Below is a brief summary of currently approved information collection activities that FRA will submit for clearance by OMB as required under the PRA:

Title: Accident/Incident Reporting and Recordkeeping.

OMB Control Number: 2130-0500.

Abstract: The collection of information is due to the railroad accident reporting regulations in 49 CFR part 225 that require railroads to submit monthly reports summarizing collisions, derailments, and certain other accidents/incidents involving damages above a periodically revised dollar threshold, as well as certain injuries to passengers, employees, and other persons on railroad property. Because the reporting requirements and the information needed regarding each category of accident/incident are unique, a different form is used for each category.

Form Number(s): FRA F 6180.39i; 54; 55; 55A; 56; 57; 78; 81; 97; 98; 99;107; 150.

Affected Public: Businesses.

Respondent Universe: 790 railroads.

Frequency of Submission: On occasion.

Reporting Burden
CFR Section | Respondent universe | Total annual responses | Average time per response | Total annual burden hours
225.6—Consolidated Reporting—Request to FRA by parent corporation to treat its commonly controlled carriers as a single railroad carrier for purposes of this part | 790 railroads | 1 request | 40 hours | 40
—Written agreement by parent corporation with FRA on specific subsidiaries included in its railroad system | 790 railroads | 1 agreement | 2 hours | 2
—Notification by parent corporation regarding any change in the subsidiaries making up its railroad system and amended written agreement with FRA | 790 railroads | 1 notification + 1 amended agreement | 60 minutes | 2
225.9—Telephonic Reports of Certain Accidents/Incidents and Other Events | 790 railroads | 2,400 phone reports | 15 minutes | 600
225.11—Reporting of Rail Equipment Accidents/Incidents—Form FRA F 6180.54 | 790 railroads | 2,500 forms | 2 hours/1 hour/123 minutes | 4,530
225.12—Rail Equipment Accident/Incident Reports Alleging Human Factor as Cause—Form FRA F 6180.81 | 790 railroads | 1,200 forms | 15 minutes | 300
—Part I Form FRA F 6180.78 (Notices) | 790 railroads | 800 notices + 4,000 copies | 10 minutes + 3 minutes | 334
—Joint operations | 790 railroads | 100 requests | 20 minutes | 33
—Late identification | 790 railroads | 20 attachments + 20 notices | 15 minutes | 10
—Employee statement supplementing Railroad Accident Report (Part II Form FRA F 6180.78) | Railroad employees | 60 statements | 1.5 hours | 90
—Employee confidential letter | Railroad employees | 10 letters | 2 hours | 20
225.13—Late Reports—Railroad discovery of improperly omitted Report of Accident/Incident | 790 railroads | 25 late reports | 1 hour | 25
—Railroad late/amended Report of Accident/Incident based on employee statement supplementing Railroad Accident Report | 790 railroads | 25 amended reports + 40 copies | 1 hour + 3 minutes | 27
225.18—Railroad narrative report of possible alcohol/drug involvement in accident/incident | 790 railroads | 12 reports | 30 minutes | 6
—Reports required by section 219.209(b) appended to rail equipment accident/incident report | 790 railroads | 5 reports | 30 minutes | 3
225.19—Rail-Highway Grade Crossing Accident/Incident Report—Form FRA F 6180.57 | 790 railroads | 2,100 forms | 2 hours/1 hour | 4,000
—Death, Injury, or Occupational Illness (Form FRA F 6180.55a) | 790 railroads | 3,243 forms | 60 min./60 min 195 min | 3,700
225.21—Railroad Injury and Illness Summary: Form FRA F 6180.55 | 790 railroads | 9,480 forms | 10 minutes | 1,580
225.21—Annual Railroad Report of Employee Hours and Casualties, By State—Form FRA F 6180.56 | 790 railroads | 790 forms | 15 minutes | 198
225.21/25—Railroad Employee Injury and/or Illness Record—Form FRA F 6180.98 | 790 railroads | 13,700 forms | 60 minutes | 13,700
—Copies of forms to employees | 790 railroads | 411 form copies | 2 minutes | 14
225.21—Initial Rail Equipment Accident/Incident Record—Form FRA F 6180.97 | 790 railroads | 11,800 forms | 30 minutes | 5,900
—Completion of Form FRA F 6180.97 because of rail equipment involvement | 790 railroads | 1 form | 30 minutes | 1
225.21—Alternative Record for Illnesses Claimed to Be Work Related—Form FRA F 6180.107 | 790 railroads | 300 forms | 75 minutes | 375
225.21—Highway User Statement—Railroad cover letter and Form FRA F 6180.150 sent out to potentially injured travelers involved in a highway-rail grade crossing accident/incident | 790 railroads | 950 letters/forms | 50 minutes | 792
—Form FRA F 6180.150 completed by highway user and sent back to railroad | 950 Injured Individuals | 660 forms | 45 minutes | 495
225.25 (h)—Posting of Monthly Summary | 790 railroads | 9,480 lists | 5 minutes | 790
225.27—Retention of Records | 790 railroads | 13,700 records | 2 minutes | 457
—Record of Form FRA F 6180.107 | 790 railroads | 300 records | 2 minutes | 10
—Record of Monthly Lists | 790 railroads | 9,480 records | 2 minutes | 316
—Record of Form FRA F 6180.97 | 790 railroads | 11,800 records | 2 minutes | 393
—Record of Employee Human Factor Attachments | 790 railroads | 1,740 records | 2 minutes | 58
225.33—Internal Control Plans—Amendments | 790 railroads | 10 amendments | 6 hours | 60
225.35—Access to Records and Reports | 15 railroads | 200 lists | 20 minutes | 67
225.37—Optical Media Transfer of Reports, Updates, and Amendments | 8 railroads | 200 transfers | 3 minutes | 10
—Electronic Submission of Reports, Updates, and Amendments | 790 railroads | 2,400 submissions | 3 minutes | 120

Total Responses: 103,976.

Estimated Total Annual Burden: 39,058 hours.

Status: Extension of a Currently Approved Collection.

Title: Railroad Communications.

OMB Control Number: 2130-0524.

Abstract: FRA amended its radio standards and procedures to promote compliance by making the regulations more flexible; to require wireless communications devices, including radios, for specified classifications of railroad operations and roadway workers; and to retitle this part to reflect its coverage of other means of wireless communications such as cellular telephones, data radio terminals, and other forms of wireless communications to convey emergency and need-to-know information. The new rule establishes safe, uniform procedures covering the use of radio and other wireless communications within the railroad industry.

Form Number(s): N/A.

Affected Public: Businesses.

Respondent Universe: 725 railroads.

Frequency of Submission: On occasion.

Reporting Burden
CFR Section | Respondent universe | Total annual responses | Average time per response | Total annual burden hours
220.8—Waivers Petitions | 725 railroads | 6 petition letters | 60 minutes | 6
220.25—Instruction of Employees | 725 railroads | 91,000 instructed employees | 30 minutes | 45,500
—Subsequent Years | 725 railroads | 12,5400 instructed employees | 10 minutes | 2,090
—Operational Testing of Employees | 725 railroads | 100,000 tests/record | 5 minutes | 8,333
220.37—Testing Radio and Wireless Communication Equipment | 725 railroads | 780,000 tests | 30 seconds | 6,500
220.61—Transmission of Mandatory Directives | 725 railroads | 7,200,000 directives | 1.5 minutes | 180,000
—Marking Mandatory Directives | 725 railroads | 624,000 marks | 15 seconds | 2,600
220.307—Railroad Written Document Stating Authorized Business Purpose for Taking Video/Photo with Railroad-Supplied Electronic Device | 725 railroads | 10 written documents | 60 minutes | 10
—Safety Briefing for Use of Railroad-Supplied Electronic Device in Cab of Controlling Locomotive | 725 railroads | 5,460,000 briefings | 1 minute | 91,000
220.313—Railroad Written Program of Instruction and Examination on Part 220 Requirements | 5 new railroads | 5 amended written Instruction Programs | 60 minutes | 5
—Training of Railroad Employees on Part 220 Requirements | 730 railroads | 5,000 Trained Employees | 15 minutes | 1,250
—Employee Training Records | 730 railroads | 5,000 records | 5 minutes | 417

Total Responses: 14,277,567.

Estimated Total Annual Burden: 337,717 hours.

Status: Extension of a Currently Approved Collection.

Title: Safety Integration Plans.

OMB Control Number: 2130-0557.

Abstract: FRA and the Surface Transportation Board, working in conjunction with each other, have issued joint final rules establishing procedures for the development and implementation of safety integration plans (SIPs) by a Class I railroad proposing to engage in certain specified merger, consolidation, or acquisition of control transactions with another Class I railroad, or a Class II railroad with which it proposes to amalgamate operations. The scope of the transactions covered under the two rules is the same. FRA uses the information collected (the required SIPs), to maintain and promote a safe rail environment by ensuring that affected railroads (Class Is and some Class IIs) address critical safety issues unique to the amalgamation of large, complex railroad operations.

Form Number(s): N/A.

Affected Public: Railroads.

Respondent Universe: Class I railroads.

Frequency of Submission: On occasion.

CFR section | Respondent universe | Total annual responses | Average time per response | Total annual burden hours
244.13—Safety Integration Plans: Amalgamation of Operations
—SIP Development & Quarterly Meetings | 8 railroads | 1 plan | 340 hours | 340
244.17—Procedures—Reports to FRA | 8 railroads | 25 reports | 40 hours + 2 hours | 88
—Responses to FRA Inquiries Re: SIP data | 8 railroads | 6 responses | 8 hours | 48
—Coordination in Implementing Approved SIP | 8 railroads | 25 phone calls | 10 minutes | 4
—Request for Confidential Treatment | 8 railroads | 1 request | 16 hours | 16
244.19—Disposition—Comments on Proposed SIP Amendments | 8 railroads | 2 reports | 16 hours | 32

Total Responses: 60.

Estimated Total Annual Burden: 528 hours.

Status: Extension of a Currently Approved Collection.

Title: Passenger Train Emergency Systems.

OMB Control Number: 2130-0576.

Abstract: The collection of information is due to passenger train emergency regulations in 49 CFR part 238 to further the safety of passenger train occupants through both enhancements and additions to FRA's existing regulations. In its final rule issued on November 29, 2013 (see 78 FR 71785), FRA added requirements for emergency passage through vestibule and other interior passageway doors and enhanced emergency egress and rescue signage requirements. FRA also established requirements for low-location emergency exit path markings to assist occupants in reaching and operating emergency exits, particularly under conditions of limited visibility. Moreover, FRA added standards to ensure emergency lighting systems are provided in all passenger cars and enhanced requirements for the survivability of emergency lighting systems in new passenger cars. The purpose of this part is to prevent collisions, derailments, and other occurrences involving railroad passenger equipment that cause injury or death to railroad employees, railroad passengers, or the general public and to mitigate the consequences of such occurrences to the extent they cannot be prevented.

Form Number(s): N/A.

Affected Public: Railroads/businesses.

Respondent Universe: 30 railroads.

Frequency of Submission: On occasion.

CFR Section | Respondent universe | Total annual responses | Average time per response | Total annual burden hours
238.112—Door Emergency Egress and Rescue Access Systems—markings, signage, instructions | 30 railroads | 45,804 markings/signs/instructions | 15 minutes | 11,451
—Passenger car exterior doors intended for emergency access by responders marked with retro-reflective material and instructions provided for their use | 30 railroads | 30,536 exterior door markings | 15 minutes | 7,634
—Markings and instructions—interior door panels/windows | 30 railroads | 1,340 marked panels/windows | 15 minutes | 335
—Testing of car door removable panels, removable windows, manual override devices, & door retention mechanisms as part of periodic mechanical inspection—Record | 30 railroads | 17 tested cars/records | 90 minutes | 26
238.113—Emergency Window Exits—markings/and instructions | 30 railroads | 662 window markings | 60 min./90 min./120 minutes | 964
—Periodic testing of representative sample of car emergency exit windows as part of periodic mechanical inspection—Record | 30 railroads | 17 tested cars/records | 30 minutes | 9
238.114—Rescue Access Windows—Markings with retro-reflective material on each exterior car | 30 railroads | 1,092 access window markings | 45 minutes | 819
238.121—Emergency Communication—Marking of each intercom intended for passenger use on new Tier I & Tier II passenger cars | 30 railroads | 116 marked intercom locations (58 new cars with two locations per car) | 5 minutes | 10
238.303—Exterior calendar day mechanical inspection of passenger equipment: Replacement of missing, illegible, or inconspicuous markings, signage, & instructions | 30 railroads | 150 replacement required markings | 20 minutes | 50
—Record of noncomplying marking, signage, or instruction | 30 railroads | 150 noncompliance records | 2 minutes | 5
238.305—Interior calendar day mechanical inspection of passenger cars: Written notification to train crew of noncomplying condition and posting notice on door of defective condition | 30 railroads | 260 notifications + 260 notices | 1 minute | 9
—Written notification to train crew of car with non-functioning PA or intercom system | 30 railroads | 300 written notifications | 1 minute | 5
—Record of noncomplying condition | 30 railroads | 300 records | 2 minutes | 10
—Railroad written procedures for mitigating hazards of noncomplying condition | 30 railroads | 30 written procedures | 40 hours | 1,200
—Written notification to train crew of noncomplying condition | 30 railroads | 458 written notifications | 2 minutes | 15
238.307—Records of inspection, testing, and maintenance of passenger car emergency window exits | 30 railroads | 7,634 inspection and testing records | 5 minutes | 636
—Replacement of missing, illegible, or inconspicuous emergency roof access markings/instructions on cars | 30 railroads | 32 required markings | 20 minutes | 11
238.311—Single Car Test: Railroad copy of APTA Standard (SS-M-005-98) for railroad head trainer | 30 railroads | 30 APTA copies | 15 minutes | 8
—Other railroad copies of APTA Standard | 30 railroads | 360 copies (12 copies per railroad) | 2 minutes | 12

Total Responses: 89,780.

Estimated Annual Burden: 23,325 hours.

Status: Extension of a Currently Approved Collection.

Under 44 U.S.C. 3507(a) and 5 CFR 1320.5(b), 1320.8(b)(3)(vi), FRA informs all interested parties it may not conduct or sponsor, and a respondent is not required to respond to, a collection of information unless it displays a currently valid OMB control number.

Authority: 44 U.S.C. 3501-3520.

Issued in Washington, DC, on October 21, 2016.
Patrick Warren,
Acting Executive Director.

[FR Doc. 2016-25893 Filed 10-25-16; 8:45 am]

BILLING CODE 4910-06-P